DEPARTMENT OF HEALTH AND HUMAN SERVICES

Substance Abuse and Mental Health Services Administration

Single Source Cooperative Agreement Supplemental Award to the District of Columbia State Incentive Grant to Fund Best Friends Foundation Youth Development Program and “Marriage is Manly” Media Campaign

AGENCY: Center for Substance Abuse Prevention (CSAP), Substance Abuse and Mental Health Services Administration (SAMHSA), Department of Health and Human Services.

SUMMARY: The Center for Substance Abuse Prevention (CSAP), Substance Abuse and Mental Health Services Administration (SAMHSA), is publishing this notice to provide information to the public concerning a planned single source cooperative agreement supplemental award in the amount of $300,000 in FY 2002, for a project period of one year, to the District of Columbia State Incentive Grant Program, to fund Best Friends Youth Development Program and “Marriage is Manly” Media Campaign. This is not a formal request for applications. Assistance will be provided only to the District of Columbia State Incentive Grant for the sole purpose of funding the Best Friends Foundation based on the receipt of a satisfactory application that is approved by an independent review group.

Authority/Justification: The grant will be made under the authority of Section 509 of the Public Health Service Act 93.243, as amended. This award is being made on a single source basis because the Best Friends Foundation has a record of success and is a long-term youth-development program that encompasses a myriad of activities for youth development including advocating sexual abstinence and prevention of alcohol and drug abuse. Its work can be categorized as education, youth development, health, family development, neighborhood revitalization and welfare reform. The expansion of these activities to focus on men is appropriate as Best Friends Foundation's work with girls has been so successful. Making the award to another entity would require additional start-up time and costs, significant loss of critical information, as well as duplication of previously completed work.

The Catalog of Federal Domestic Assistance (CFDA) number for this program is 93.243.

FOR FURTHER INFORMATION CONTACT: Wil L. Hardy, Ph.D., M.S.W., Government Project Officer, DSCSD/SAB, Center for Substance Abuse Prevention (CSAP), SAMHSA, Room 930, Rockwall II Building, 5600 Fishers Lane, Rockville, MD 20857, (301) 443-8057, whardy@samhsa.gov.

Dated: August 29, 2002.
Richard Kopanda,
Executive Officer, SAMHSA.

[FR Doc. 02-22639 Filed 9-4-02; 8:45 am]

BILLING CODE 4162-20-P